DEPARTMENT OF AGRICULTURE

Forest Service

Clearwater and Nez Perce National Forests; Revised Land and Resource Management Plans for the Nez Perce and Clearwater National Forests

AGENCY: Forest Service, USDA.

ACTION: Notice of intent to prepare an environmental impact statement.

SUMMARY: The USDA Forest Service intends to prepare an Environmental Impact Statement (EIS) on a proposal to revise land and resource management plans (forest plans) for the Nez Perce and Clearwater National Forests pursuant to 16 U.S.C. 1604(f)(5) and USDA Forest Service National Forest System Land and Resource Management Planning regulations (36 CFR part 219). The revised forest plans will supersede the current forest plans, which the Regional Forester approved in 1987. A Notice of Intent to revise the Clearwater National Forest Plan was published May 8, 1995, in the Federal Register, vol. 60, no. 45, p. 12733. This is a modification of that notice and adds the Nez Perce National Forest in this notice in order to provide a proposed action covering both forests for public review and comment. This notice describes the preliminary issues which will be emphasized, the estimated dates for filing the EIS, the information concerning public participation, and the names and addresses of the responsible agency official and the individual who can provide additional information.

DATES: The agency must receive comments on or before December 29, 2004. The Draft EIS is expected to be available for public review by July 2005. The Final EIS and revised forest plans are expected to be completed by October 2006.

ADDRESSES: Send written comments to: Nez Perce and Clearwater National Forests, Forest Plan Revision Content Analysis Team, Route 2 Box 191, Kamiah, ID 83536 or fax them to: (208) 935-2956. Comments may also be submitted using the comment form at http://www.fs.fed.us/cnpz/forest/contact/index.shtml.

FOR FURTHER INFORMATION CONTACT: Elayne Murphy, Forest Plan Revision Public Affairs Officer, (208) 935-2513. Additional information will also be posted on the Clearwater and Nez Perce National Forests' planning Web page at http://www.fs.fed.us/cnpz/.

SUPPLEMENTARY INFORMATION: The Regional Forester for the Northern Region gives notice of the agency's intent to prepare an EIS to revise forest plans for the Nez Perce and Clearwater National Forests. This notice revises the Notice of Intent for the Clearwater National Forest published on May 8, 1995, in Federal Register, vol. 60, no. 45, p. 12733, by adding the Nez Perce National Forest in order to provide a proposed action covering both forests for public review and comment. The Regional Forester approved the original forest plans for both the Nez Perce and Clearwater National Forests in 1987. These plans guide the overall management of the Nez Perce and Clearwater National Forests. Indicators of the need to revise these plans are: (1) Changes in forest conditions; (2) changes in public demands and expectations; (3) changes in law, policy or regulatory direction; (4) results of monitoring and evaluation of implementation under the current forest plans; (5) new science that indicates emerging issues, concerns or opportunities that are not adequately addressed in the current forest plans.

Vision for Forest Plan Revision—Over the next 15 years, the agency proposes to utilize a variety of management tools to maintain healthy, resilient landscapes and watersheds that provide diverse recreation opportunities and a sustainable flow of forest products and amenities. To achieve this, the agency intends to retain the parts of existing forest plans that are current and working well, incorporate new information and make improvements where needed. Revised plans will reflect the main scientific, social and resource changes. Several major changes are proposed.

Change in Format

Current Forest Plan Direction—Current plans communicate primarily through text and tables, supported with single maps of management areas.

Why Change?—Geographic Information System (GIS) technology makes it possible to display most information and management direction on maps. This visual display is more meaningful for most people.

Proposed Change—Forest plans will include more visual elements. Information and management direction will be displayed with maps whenever possible.

Change in Type of Direction

Current Forest Plan Direction—Current forest plans are detail-oriented, often providing specific direction for particular areas. In many cases they prescribe the management tools that should be used.

Why Change?—The Northern Region Revision Strategy emphasizes the strategic nature of forest plans with an emphasis on desired future conditions. Site-specific decisions need to be made through project analysis. Managers need the option to use a variety of management tools.

Proposed Change—Focus on developing strategic direction that emphasizes desired future conditions and objectives for larger areas of land with fewer standards and guidelines.

Change in Focus

Current Forest Plan Direction—Direction was developed to achieve various levels of goods and services (outputs). Links to resource capabilities were not well established.

Why Change?—Management emphasis has evolved over the years. Ecological principles are the basis for management actions. Outputs are the result of sound ecosystem management practices.

Proposed Change—Focus on developing management strategies that result in healthy, resilient ecosystems where outputs are within long-term resource capability and sustainability.

Change From Management Areas to Geographic Areas

Current Forest Plan Direction—The size, design, and resource use emphasis of management areas in current forest plans make them difficult to locate on-the-ground. They also create challenges for integrated management of vegetation, aquatic resources, wildlife, recreation and other resources.

Why Change?—Changing from the use of management areas to geographic areas with locatable boundaries and names that make sense to the public (place-based) will make it easier to display the activities and uses that will take place in specific areas of the national forests. The change facilitates an integrated approach to resource management. It also makes it easier for the public to focus their comments on locations.

Proposed Change—Delineate the forests into twenty-seven geographic areas using locatable features such as streams, roads, or ridgelines. Identify the unique features within each geographic area as well as the desired future conditions, goals and objectives. Depict where various uses and activities are appropriate using a map, or series of maps, and tables.

Change in Emphasis

Several major changes are proposed as a result of the Analysis of the Management Situation (http://www.fs.fed.us/cnpz/), based on 17 years of forest plan implementation and monitoring, as well as recent scientific, social, and resource changes. This analysis suggested five primary management revision topics: (1) Access management with a focus on motorized and non-motorized travel; (2) watersheds and aquatic ecosystems; (3) terrestrial ecosystems; (4) noxious weeds and (5) special designations and areas including management of roadless areas, historic sites, Research Natural Areas, and Wild and Scenic rivers.

Revision Topics

(1) Access Management

Forest plan revision will focus on improving management direction for motorized and non-motorized access to the two national forests. The primary focus will be to protect and maintain natural resources while allowing motorized and non-motorized access. The scope of the analysis will encompass roads, trails and cross-country travel during the non-winter and winter seasons.

Current Forest Plan Direction—Current forest plans contain direction that provides for both motorized and non-motorized access. Both plans allow motorized use on designated routes (roads and trails) as well as cross-country travel on thousands of acres except in areas important for wildlife habitat, special recreation areas and designated Wilderness.

Why Change?—Access to national forest lands is one of the most controversial topics in forest management today. Management strategies in 1987 forest plans need to be changed due to large increases in recreation demand, evolving technology (e.g. larger, more powerful off-highway vehicles and snowmobiles), increasing conflicts between motorized and non-motorized users and resource impacts to watersheds and wildlife resulting from cross-country travel by motorized users.

The distribution of motorized and non-motorized opportunities needs to be reviewed and updated to allow for public and tribal access while conserving or restoring forest resources.

Proposed Action—Modify access management direction to specify where motorized and non-motorized use (both non-winter and winter) is allowed, restricted or prohibited. The modifications will be applied on an area (zoning) basis and will not address individual routes. This proposed emphasizes improving recreation opportunities on authorized summer and winter motorized routes; however, it is anticipated there will be a decrease in areas open for summer motorized use and in areas available for winter snowmobile use.

(2) Watersheds and Aquatic Ecosystem Management

New information and increased awareness of physical watershed condition and aquatic animals indicate a need to strengthen forest plan direction to conserve and restore aquatic resources. Findings from landscape-scale science assessments at the river basin, subbasin, and watershed scales brought to light new information regarding aquatic ecosystem conditions across the basin. The results of these assessments provide information to consider when revising land management objectives to better meet conservation and restoration goals.

Current Forest Plan Direction—State and Federal designations under the Clean Water Act and the Endangered Species Act have resulted in changes in the amounts, types, locations, and timing of a variety of uses, including the utilization of forest products. The Clearwater and Nez Perce forest plans were amended in 1995 to incorporate riparian and stream protections to halt watershed degradation and begin recovery of aquatic ecosystems with an emphasis on recovery needs of federally listed fish species. This change in Forest plan management direction reduced timber harvest and road construction potential relative to the 1987 estimated levels. The 1995 forest plan amendments, referred to as PACFISH and INFISH, are interim direction intended to remain in effect until forest plans are amended or revised. Since the current Forest plans were approved, approximately 1,559 miles of stream segments within the Clearwater and Nez Perce National Forest have been listed as “impaired,” per Section 303(d) of the Clean Water Act.

Why Change?—There is a need to develop strategic management and monitoring direction to address current State of Idaho water quality impaired waters, and future streams and water bodies that are added or removed from the 303(d) list. There is a need to integrate goals and objectives of aquatic, riparian, upland forest, shrubland and grassland components that better reflect expected outputs and allowed uses to achieve watershed management goals while meeting commitments under the Endangered Species Act.

Proposed Actions—

• Contribute to the recovery of threatened and endangered species by adopting the majority of the interim management direction contained in INFISH and PACFISH, with minor modifications, such as revised riparian management objectives.

• Establish aquatic conservation areas and associated direction. Priorities will be assigned to areas with the highest potential for improvement.

• Integrate State of Idaho Total Maximum Daily Load (TMDL) programs with management direction.

(3) Terrestrial Ecosystem Management

Current Forest Plan Directions—The use of fire for resource benefits is available on portions of the forests. Road construction and timber harvest is allowed on most of the roaded base and over half of the Inventories Roadless Areas (IRAs). Exceptions were those IRAs proposed for Wilderness and those allocated to management for high quality fish habitat, recreation uses, and some big-game winter ranges. Planned harvest was designed to optimize timber production and regenerate timber stands. Soil restoration needs were not identified in the current forest plans.

Why Change?—Both forests desire the flexibility to make more extensive use of fire to restore ecosystem functions, and reduce firefighting costs and risks to firefighter safety. During 17 years of forest plan implementation, small portions of some IRAs were developed through road construction and timber harvest; however, this level of development was much less than anticipated. Limited development was due to new scientific information, public concerns, decreasing budgets, changing priorities and changing national direction. Vegetation has changed due to wildfires, insect and disease outbreaks, fire exclusion, timber harvest, and drought. Terrestrial wildlife habitat needs were not fully integrated in management objectives. Changes have occurred in plants and animals listed as threatened, endangered or sensitive. Existing management indicator species have not been the best indicators of landscape management actions. Implementation monitoring indicates a need to adjust soil management direction in the plans.

Proposed Actions—

• Update vegetation goals, objectives and standards to reflect a desired range of variation for species composition (species representation), structure (density and size), and disturbance (primarily insects, white pine blister rust, and fire).

• Emphasize timber harvest that stimulates the effects of natural disturbances to meet ecosystem goals. Recalculate suitable acres and allowable sale quantity using updating silvicultural prescriptions and yield tables to reflect vegetation goals, objectives and standards. It is anticipated road construction and timber harvest will be reduced in IRAs. Timber harvest will be the primary tool in the roaded front country.

• Allow wildland fire use in more backcountry areas and expand the use of prescribed fire in undeveloped areas, including Wilderness.

• Incorporate soil productivity/soil restoration goals, objectives and standards.

• Update management indicator species direction to better reflect the effects of management actions and desired future conditions. Increase the integration of terrestrial wildlife habitat needs into the vegetation and fuels management strategies for both forests.

• Fully integrate forest plan direction to contribute to the recovery needs of federally listed terrestrial, aquatic and plant species, and prevent Forest Service sensitive species from becoming listed under the Endangered Species Act.

(4) Noxious Weed Management

The establishment and spread of noxious weeds has greatly accelerated across the range and forestlands of both national forests. There is a need to update current management direction to adequately address noxious weeds and their effects on ecosystem composition, structure and function and their effects on commercial and non-commercial use of forest resources.

Current Forest Plan Direction—Current direction regarding noxious weed invasion and the loss of native, non-forest plant species is incomplete. Some direction for cooperatively managing weeds exists, but newly developed strategies have not been incorporated into existing forest plans. There is incomplete direction for establishing integrated weed management programs.

Why Change?—Noxious weeds are crowding out native vegetation. Noxious weed management has become one of the agency's top priorities. Inter-government and agency cooperative weed management strategies have been developed. Cooperative weed management areas now exist. Prevention, education, control and restoration programs are growing.

Proposed Actions—

• Update the forest plans by incorporating the Salmon River, Clearwater River and Palouse weed management area strategies as direction for noxious weed management.

• Develop objectives and standards to integrate noxious weed prevention, education and control. Maintain or increase the restoration of native, non-forested lands within the two national forests.

(5) Special Designations and Areas

The public is interested in the designation of special areas such as Wilderness, Wild and Scenic Rivers or Research Natural Areas. Tribal governments are interested in areas with historic and cultural significance. There is ongoing national controversy about the management of inventoried roadless areas (IRAs) and recommending areas to be included in the National Wilderness Preservation System. Similarly, Forest Service recommendations for additions to the National Wild and Scenic Rivers System generate intense local, regional and national interests.

Current Forest Plan Direction—Current forest plans provide direction for a variety of special areas. On the Clearwater National Forest six roadless areas are recommended for designation as Wilderness. No areas are recommended for Wilderness designation on the Nez Perce National Forest. The Clearwater plan allows motorized use in recommended Wilderness, particularly during winter months. This is inconsistent with direction for the Great Burn area on the adjacent Lolo National Forest. Seven rivers on the Clearwater National Forest and thirteen river segments on the Nez Perce National Forest are recommended additions to the Wild and Scenic Rivers System. Nine areas on the Clearwater National Forest and eight areas on the Nez Perce National Forest are recommended as Research Natural Areas. Approximately 85,000 acres in three distinct Geographic Display Areas, are designated as Multi-Resource Development Areas (MRDAs) in the Nez Perce forest plan. These areas were incorporated into a variety of management areas. The management areas provided direction for a variety of uses and activities including timber harvest, road construction and protection of important wildlife and visual resources.

Why Change?—Planning regulations require each national forest to review and adjust areas to be recommended as Wilderness, Wild and Scenic Rivers, Research Natural Areas or other special areas. Portions of both Forests have been inventoried as roadless and need to be evaluated for recommendation as designated Wilderness. Rivers and streams need to be evaluated to determine which ones should eventually be recommended as part of the Wild and Scenic Rivers System. Potential Research National Areas need to be analyzed and recommended in the revised plan. Direction for other special areas needed to be reviewed and updated.

Proposed Actions—

• Update the areas inventoried as roadless and determine which ones will be recommended to Congress for designation as Wilderness. Bring forward Wilderness recommendations from the 1987 Clearwater and Nez Perce National Forest plans with boundary adjustments.

• Develop consistent interim management direction for roadless areas recommended for designation as Wilderness. Prohibit motorized and mechanized uses in recommended Wilderness.

• Update direction for management of roadless areas not recommended for Wilderness. Determine where motorized and non-motorized uses will be allowed.

• Review and update potential eligible rivers and streams for recommendation to be included in the Wild and Scenic Rivers System.

• Review and update management direction for the Multi-Resource Development Areas adjacent to the Gospel-Hump Wilderness.

Proposed Topics Not Identified As Revision Topics

Preliminary topics discussed in this section are also important issues to be addressed during plan revision. However, they are likely not substantial or widespread enough to be major issues in the EIS alternatives or forest-wide management area direction.

Heritage Resources

Laws and regulations provide most of the management direction for this resource. The Analysis of the Management Situation identified the need to update heritage resource definitions and modify management direction to better incorporate new information and changed conditions as needed.

Lands

Existing direction provides for land ownership adjustments to consolidate lands and provide for better management of forest resources. Existing direction will be reviewed and updated as needed.

Air Quality

The 1990 and 1999 amendments to the Clean Air Act and the formation of the Montana/Idaho State Airshed Group have changed forest management practices.

Decisions regarding wildland fire use are made within the guidelines of the Airshed Group Operating Plan. Forest plan direction needs to be reviewed and updated to reflect the strategic intent of that operating plan.

Minerals

The existing forest plan direction will be reviewed and modified as needed to improve direction related to mining laws and public need for mineral resources. Improved direction could provide for management of discretionary and non-discretionary mineral activities. It may also address the relationship between areas with mineral potential and uses and surface resources of concern where there is existing or potential conflict.

Range Management

Allotment management plans and current policy provide most of the needed direction. Forest plan direction needs to be reviewed and updated to reflect current policy and information.

Administrative Sites

An updated forest facility master plan will provide an assessment of facility conditions and develop forest-wide priorities for funding facility improvements and new construction.

Issues Not Addressed In Forest Plan Revision

Issues addressed adequately in the current forest plan will not be revisited. Issues that relate to site-specific actions are better addressed during project analysis. Some issues, while important, are beyond the authority of the Nez Perce and Clearwater National Forests. Issues that do not pertain to decisions to be made in forest plans are excluded from further consideration. In addition, some issues, though related to forest plan revision, may not be undertaken at this time, but addressed later as a future forest plan amendment.

Range of Alternatives

The Nez Perce and Clearwater National Forests will consider a range of alternatives when revising the forest plans. Alternatives will provide different ways to address and respond to issues identified during the scoping process. A “no-action alternative” reflecting the effects of continuing current management is required. The range of alternatives will be defined within legal parameters, resource capability, and sustainability over the long-term.

Inviting Public Participation

The Nez Perce and Clearwater National Forests are now soliciting comments and suggestions from Federal agencies, governments, individuals and organizations on the scope of the analysis to be included in the draft environmental impact statement for the revised forest plan (40 CFR 1501.7). Government-to-government consultation with tribal governments is ongoing. Comments should focus on (1) the preliminary topics proposed to be emphasized in revising the forest plan, (2) possible means of addressing concerns associated with these topics, (3) potential environmental effects and other management outcomes that should be included in the analysis, and (4) any possible impacts associated with the proposal based on an individual's civil rights (race, color, national origin, age, religion, gender, disability, political beliefs, sexual orientation, marital or family status). The Nez Perce and Clearwater National Forests will encourage public participation in the environmental analysis and decision-making process.

Along with the release of this NOI, the Nez Perce and Clearwater National Forests are providing for additional public engagement through direct mailings, the Web site, and meetings when requested by individuals, groups or agencies. For further information, contact your local Forest Service office or Elayne Murphy at (208) 935-2513.

Release and Review of the Draft EIS (DEIS)

The DEIS is expected to be filed with the Environmental Protection Agency (EPA) and to be available for public comment in July 2005. At that time, the EPA will publish a notice of availability in the Federal Register. The comment period on the DEIS will extend 90 days from the date the EPA publishes the notice of availability in the Federal Register. The Final EIS and decision are expected in October 2006.

Dated: September 16, 2004.
Kathleen A. McAllister,
Deputy Regional Forester.

[FR Doc. 04-21265 Filed 9-29-04; 8:45 am]

BILLING CODE 3410-11-M